DEPARTMENT OF COMMERCE

National Oceanic and Atmospheric Administration

RIN 0648-XB078

New England Fishery Management Council; Public Meeting

AGENCY: National Marine Fisheries Service (NMFS), National Oceanic and Atmospheric Administration (NOAA), Department of Commerce.

ACTION: Notice; public meeting.

SUMMARY: The New England Fishery Management Council's (Council) Groundfish Oversight Committee will meet to consider actions affecting New England fisheries in the exclusive economic zone (EEZ).

DATES: The meeting will be held on Thursday, March 29, 2012 at 8:30 a.m.

ADDRESSES: The meeting will be held at the Providence Biltmore Hotel, 11 Dorrance Street, Providence, RI 02903; telephone: (401) 421-0700.

Council Address: New England Fishery Management Council, 50 Water Street, Mill 2, Newburyport, MA 01950.

FOR FURTHER INFORMATION CONTACT: Paul J. Howard, Executive Director, New England Fishery Management Council; telephone: (978) 465-0492.

SUPPLEMENTARY INFORMATION:

Agenda

The Groundfish Committee will meet to continue development of two management actions. The Committee will continue development of an action to modify measures that apply to sectors. This discussion is expected to focus primarily on monitoring issues, including goals and objectives and possible funding mechanisms. The Committee may also discuss full retention of allocate groundfish species and other sector framework issues. The Committee will discuss an action to establish acceptable biological catches (ABCs) and annual catch limits (ACLs) for fishing years 2013 and 2014. As part of this discussion the Committee will receive a preliminary report on recently updated assessments and may discuss further the Council's response to the recent Gulf of Maine cod assessment. Setting ABCs/ACLs may also require modification of recreational fishing measures and the Committee may begin this discussion. The Committee may also discuss adopting additional sub-ACLs for the scallop fishery and pursuing the Mixed Stock Exception for SNE/MA windowpane flounder. The Committee will receive an update on Plan Development Team work related to possible modifications to groundfish closed areas. They will receive a report on the recent Endangered Species Act listing of Atlantic Sturgeon and will discuss ways to reduce sturgeon takes. The Committee will also discuss the rockhopper/roller gear restriction in the western Gulf of Maine and develop a recommended response to a request for clarification from the National Marine Fisheries Service. Other business may be discussed.

Although non-emergency issues not contained in this agenda may come before this group for discussion, those issues may not be the subject of formal action during this meeting. Action will be restricted to those issues specifically identified in this notice and any issues arising after publication of this notice that require emergency action under section 305(c) of the Magnuson-Stevens Fishery Conservation and Management Act, provided the public has been notified of the Council's intent to take final action to address the emergency.

Special Accommodations

This meeting is physically accessible to people with disabilities. Requests for sign language interpretation or other auxiliary aids should be directed to Paul J. Howard (see ADDRESSES) at least 5 days prior to the meeting date.

Authority: 16 U.S.C. 1801 et seq.

Dated: March 7, 2012.
Tracey L. Thompson,
Acting Director, Office of Sustainable Fisheries, National Marine Fisheries Service.

[FR Doc. 2012-5949 Filed 3-12-12; 8:45 am]

BILLING CODE 3510-22-P